DEPARTMENT OF LABOR

Employment and Training Administration

[TA-W-65,627]

Steelscape, Rancho Cucamonga, CA; Notice of Termination of Investigation

Pursuant to Section 221 of the Trade Act of 1974, as amended, an investigation was initiated on March 18, 2009, in response to a worker petition filed by a company official on behalf of workers at Steelscape, Rancho Cucamonga, California.

The petitioner has requested that the petition be withdrawn. Consequently, the investigation has been terminated.

Signed at Washington, DC this 26th day of March 2009.
Linda G. Poole,
Certifying Officer, Division of Trade Adjustment Assistance.

[FR Doc. E9-10235 Filed 5-4-09; 8:45 am]

BILLING CODE 4510-FN-P